DEPARTMENT OF ENERGY

Federal Energy Regulatory Commission

[Docket Nos. RP00-331-003 and RP01-23-005]

Algonquin Gas Transmission Company; Notice of Compliance Filing

June 6, 2002.

Take notice that on May 29, 2002, Algonquin Gas Transmission Company (Algonquin) tendered for filing as part of its FERC Gas Tariff, Fourth Revised Volume No. 1, the revised tariff sheets listed in the Appendices to the filing.

Algonquin states that the purpose of this filing is to comply with the Commission's February 27, 2002 Order on Algonquin's Order No. 637 Compliance Filing.

Algonquin states that copies of its filing have been mailed to all parties on the official service lists compiled by the Secretary of the Commission in these proceedings.

Any person desiring to protest said filing should file a protest with the Federal Energy Regulatory Commission, 888 First Street, NE, Washington, DC 20426, in accordance with Section 385.211 of the Commission's Rules and Regulations. All such protests must be filed on or before June 13, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14883 Filed 6-12-02; 8:45 am]

BILLING CODE 6717-01-P